DEPARTMENT OF HEALTH AND HUMAN SERVICES

Food and Drug Administration

21 CFR Part 50

Protection of Human Subjects

CFR Correction

In Title 21 of the Code of Federal Regulations, parts 1 to 99, revised as of April 1, 2000, on page 278, §50.3 is corrected by removing and reserving paragraph (b)(11).

[FR Doc. 00-55520 Filed 12-26-00; 8:45 am]

BILLING CODE 1505-01-D